TENNESSEE VALLEY AUTHORITY

Bull Run Fossil Plant Landfill

AGENCY: Tennessee Valley Authority.

ACTION: Record of Decision.

SUMMARY: This notice is provided in accordance with the Council on Environmental Quality's regulations and Tennessee Valley Authority's (TVA) procedures for implementing the National Environmental Policy Act (NEPA). TVA has decided to adopt the Preferred Alternative identified in the Bull Run Fossil Plant Landfill Final Environmental Impact Statement (EIS). The notice of availability (NOA) of the Final EIS for the Bull Run Landfill was published in the Federal Register on January 20, 2017. This alternative, Construct and Operate a Landfill for Storage of coal combustion residual (CCR) on TVA Property Adjacent to Bull Run Fossil Plant (Site J), would achieve the purpose and need of the project to provide long-term disposal of dry CCR materials produced at the Bull Run Fossil Plant.

FOR FURTHER INFORMATION CONTACT: Anita E. Masters, Project Environmental Planning, NEPA Project Manager, Tennessee Valley Authority, 1101 Market Street, BR 4A, Chattanooga, Tennessee 37402; telephone (423) 751-8697, or by email aemasters@tva.gov. The Final EIS, this Record of Decision and other project documents are available on TVA's Web site https://www.tva.gov/nepa.

SUPPLEMENTARY INFORMATION: TVA is a federal agency and instrumentality of the United States created by and existing pursuant to the TVA Act of 1933. Its broad mission is to foster the social and economic welfare of the people of the Tennessee Valley region and to promote the proper use and conservation of the region's natural resources. One component of this mission is the generation, transmission, and sale of reliable and affordable electric energy.

TVA operates the nation's largest public power system, producing approximately four percent of all of the electricity in the nation. TVA provides electricity to most of Tennessee and parts of Virginia, North Carolina, Georgia, Alabama, Mississippi, and Kentucky. Currently, it serves more than nine million people in 80,000 square miles (mi) in this seven-state region. The TVA Act requires the TVA power system to be self-supporting and operated on a nonprofit basis and directs TVA to sell electricity at rates as low as are feasible. TVA receives no taxpayer funding, deriving virtually all of its revenues from sales of electricity. TVA receives no taxpayer funding, deriving virtually all of its revenues from sales of electricity. In addition to operating and investing its revenues in its power system, the TVA Act provides for flood control, navigation and land management for the Tennessee River watershed and assists local power companies and state and local governments with economic development and job creation.

The Bull Run Fossil Plant generates over six billion kilowatt-hours of electric power in a typical year, which is enough electrical energy to meet the needs of approximately 430,000 homes. Historically, TVA has managed storage of CCR materials at the plant in ash impoundments or dry landfills. To modernize the facility and comply with TVA's commitment to manage CCRs on a dry basis, TVA completed the construction of a mechanical dewatering facility in 2014, which removes free water from the CCR—both bottom ash and gypsum. The CCR is then dry-stacked in an on-site landfill located east of the plant. TVA had already been handling and storing fly ash on a dry basis, so there were no changes to that process as a result of the change to dry storage of CCR.

The Bull Run Fossil Plant has state-of-the-art air pollution controls and is one of the coal plants that TVA plans to continue operating in the future. TVA needs 20 years of disposal capacity to meet this operational timeline. Based on current estimates of energy production and consumption rates, on-site storage capacity will be expended within 10 years.

The purpose of this action is to support the need for additional capacity for the long-term management of CCR at Bull Run Fossil Plant. Additional storage capacity would also enable TVA to continue operations at Bull Run Fossil Plant as planned and would be consistent with TVA's voluntary commitment to convert wet CCR management systems to dry systems.

Alternatives Considered

TVA considered three alternatives in the Draft EIS and Final EIS. These alternatives are:

Alternative A—No Action. Under this alternative TVA would not seek additional disposal options for dry placement of CCR generated at Bull Run Fossil Plant. Rather, CCR would continue to be stored in the current disposal areas for as long as storage capacity is available. There is limited capacity for additional CCR disposal on-site. Consequently, at some point in the future, capacity to store CCR on-site will become a limiting factor for continued Bull Run Fossil Plant operations. Any limit on future operations of Bull Run Fossil Plant would not comply with TVA's plan to operate Bull Run Fossil Plant as a base load facility nor conform to TVA's long-range plan to provide power to meet future demands through 2033 as outlined in TVA's Integrated Resource Plan. This alternative would not meet the purpose and need for the proposed action and, therefore, is not considered viable or reasonable. It does, however, represent current conditions and as such provides a benchmark for comparing the environmental impacts of implementation of Alternatives B and C.

Alternative B—Construct and Operate a Landfill for Storage of CCR on TVA Property Adjacent to Bull Run Fossil Plant (Site J). TVA would construct and operate a landfill for disposal of dry CCRs generated at the plant on TVA-owned property located approximately 0.4 mi east of Bull Run Fossil Plant. TVA estimates the landfill would provide approximately 15.5 years of disposal capacity based on projected energy production and consumption rates. Development of Site J would also include construction of a dedicated on-site haul road to convey dry CCR from the plant to the landfill. The 1.37-mile-long haul road would require a bridge to be constructed to convey haul route traffic over New Henderson Road.

Alternative C—Off-Site Transport of CCR to an Existing Permitted Landfill (Chestnut Ridge). Under this alternative, CCR from Bull Run Fossil Plant would be transported to an existing off-site permitted landfill. The analysis of impacts associated with this alternative is based on the closest landfill that can currently accept CCR material, the Chestnut Ridge Landfill, a Class 1 Municipal Solid Waste Facility located approximately twelve miles northeast of Bull Run Fossil Plant. Dry CCR generated at Bull Run Fossil Plant would be transported by tandem dump trucks on existing roadways to the Chestnut Ridge Landfill for disposal. Barge and rail transport were not considered feasible options for this EIS given the lack of existing infrastructure and the proximity of Chestnut Ridge to Bull Run Fossil Plant.

Environmentally Preferable Alternative

The EIS includes baseline information for understanding the potential environmental and socioeconomic impacts associated with the alternatives considered by TVA. TVA considered twenty-one resource areas related to the human and natural environments and the impacts on these resources associated with each alternative.

Alternative A—No Action would result in the lowest level of environmental impacts as the construction-related impacts resulting from Alternative B and impacts related to transportation of CCR under Alternative C would be avoided. However, Alternative A—No Action, does not meet the purpose and need for the project. Implementation of Alternative B would result in minimal unmitigated impacts to the environment, most of which would be related to construction activities that would be temporary in nature and minimized with implementation of best management practices. Long-term minor impacts to wetlands, a stream on the site and losses of potentially suitable summer roost trees for the Indiana bat and northern long-eared bat would be mitigated as described below. The landfill would change the viewshed of some members of the surrounding community. However, as the landfill is located within Bull Run Fossil Plant property in an area that has been modified to support plan operations, there would be a minimal change to the overall scenic value. Alternative C, which utilizes an existing, permitted landfill, would result in few impacts to the natural environment. Impacts associated with this alternative are related to transportation of CCR from Bull Run Fossil Plant to the Chestnut Ridge Landfill.

Public Involvement

On May 21, 2015, TVA published a Notice of Intent (NOI) in the Federal Register announcing that it planned to prepare an EIS to address the storage of CCR generated at Bull Run Fossil Plant. The NOI initiated a public scoping period, which concluded on July 6, 2015. In addition to the NOI in the Federal Register, TVA published notices regarding this effort in regional and local newspapers; issued a news release to more than 400 media outlets; and posted the news release on the TVA Web site, and posted flyers and signs near the alternative landfill site to solicit public input.

The Draft EIS was released to the public on May 20, 2016, and a notice of availability including a request for comments on the Draft EIS, was published in the Federal Register on May 27, 2016. TVA's public and agency involvement for this Draft EIS included a public notice and a 45-day public review of the Draft EIS. The Draft EIS was posted on TVA's Web site and hard copies were available by request. To solicit public input, the availability of the Draft EIS was announced in regional and local newspapers and a news release was issued to the media and posted to TVA's Web site. In addition, TVA mailed postcard notifications to all residents within a one-mile radius of the plant (311 addresses). The postcards announced the availability of the EIS and requested comments. The public comment period closed on July 12, 2016, although TVA accepted comments that were submitted as late as August 12, 2016. TVA's agency involvement included sending letters to local, state and federal agencies and federally recognized tribes to notify them of the availability of the Draft EIS.

TVA received 12 comment submissions, which included letters, emails and submissions through the project Web site. The comment submissions were carefully reviewed and synthesized into comment statements. The most frequently mentioned topics from the public comments were related to the impact from noise and dust from landfill operations as well as the visual impact and change in land use of the site on the surrounding community. TVA provided responses to these comments, made appropriate minor revisions to the Draft EIS and issued the Final EIS.

The NOA for the Final EIS was published in the Federal Register on January 20, 2017.

Decision

TVA has decided to implement the preferred alternative identified in the Final EIS, Alternative B—Construct and Operate a Landfill for Storage of CCR on TVA Property Adjacent to Bull Run Fossil Plant (Site J). This alternative was selected over Alternative C—Off-Site Transport of CCR to an Existing Permitted Landfill (Chestnut Ridge) as it would achieve the purpose and need of the project with minimal unmitigated environmental impact, avoid the off-site transport of CCR along public roads, as well as the air emissions, noise, increased traffic and associated long-term safety risks, and disruptions to the public that would be associated with such off-site transport.

Mitigation Measures

TVA would use appropriate best management practices during all phases of construction and operation of the landfill. Mitigation measures, actions taken to reduce adverse impacts associated with proposed action, include:

• Due to the loss of potentially suitable foraging and roosting habitat for endangered bat species, Section 7 consultation with U.S. Fish and Wildlife will be required. Given the occurrence of potentially suitable roosting habitat for some endangered bat species, all tree clearing would be limited to those times of the year when bats are not expected to be roosting in the area (October 1 through March 31). Impact to bat habitat would be mitigated in accordance with U.S. Fish and Wildlife requirements.

• TVA has coordinated with State of Tennessee Department of Environment and Conservation (TDEC) and the U.S. Army Corps of Engineers, and has proposed mitigation for areas impacted by relocation and/or encroachment of Worthington Branch through payment to an appropriate stream bank and/or restoration on-site.

• Actions involving wetlands and/or stream crossings and stream alterations would be subject to requirements outlined in the federal Clean Water Act Section 404 permit and the TDEC Aquatic Resources Alteration Permit. TVA would adhere to all conditions stipulated in these permits.

• TVA will maintain the plantings along the portion of Site J adjacent to Old Edgemoor Road to continue to provide a vegetative screen.

• TVA will develop a fugitive dust plan which identifies adequate dust control measures for this site. As per CCR rule requirements TVA has developed a fugitive dust hotline where concerns regarding fugitive dust can be recorded. Every year TVA will prepare a report detailing the dust controls used, any citizen complaints received, and a summary of any corrective actions taken.

• TVA will implement a groundwater monitoring plan that adheres to the requirements established in the CCR Rule and those established by TDEC.

Dated: March 29, 2017.
Robert M. Deacy, Sr.,
Senior Vice President, Generation Construction, Projects & Services.

[FR Doc. 2017-08459 Filed 4-26-17; 8:45 am]

BILLING CODE 8120-08-P